NATIONAL COUNCIL ON DISABILITY

Sunshine Act Meetings

TIME AND DATES: The Members of the National Council on Disability (NCD) will meet by phone on Thursday, December 8, 2011, 1 p.m.-5 p.m., ET.

PLACE: The meeting will occur by phone. NCD staff will participate in the call from the Access Board Conference Room, 1331 F Street, NW., Suite 800, Washington, DC. Interested parties may join the meeting in person at the Access Board Conference Room or may join the phone line in a listening-only capacity (with the exception of the public comment period) using the following call-in information: Call-in number: 1-(877) 446-3914; Passcode: 569168.

MATTERS TO BE CONSIDERED: The Council will meet by phone to provide standing committee reports, including NCD updates on several policy matters—including the Community Living Assistance Services and Supports (CLASS) Program; effective communication strategies for people with disabilities before, during, and after disasters; and the 2012 NCD Progress Report—and receive presentations by the following individuals: Bill Kiernan, Director, Institute for Community Inclusion, University of Massachusetts-Boston to discuss employment issues for people with disabilities; Rodney Whitlock, Health Policy Director for the Office of Senator Chuck Grassley (R-IA), to discuss the Super Committee and potential impact of recommendations on people with disabilities; and Deborah Spitalnik, Director, and Carrie Coffield, Pediatrics Instructor, The Elizabeth M. Boggs Center on Developmental Disabilities, University of Medicine & Dentistry of New Jersey-Robert Wood Johnson Medical School Department of Pediatrics to discuss voting for people with disabilities. Policy discussions will be followed by a period for public comment by phone or in-person. Any individuals interested in providing public comment will be asked to provide their names, their organizational affiliations if applicable, and limit their comments to three minutes. Those individuals who plan to provide public comment may also send their comments in writing to Lawrence Carter-Long, Public Affairs Specialist, at lcarterlong@ncd.gov, using the subject line of “Public Comment.” Although individuals may provide public comment on any subject, the Council encourages comments about the Super Committee's debt reduction proposal in particular.

CONTACT PERSON FOR MORE INFORMATION: Anne Sommers, NCD, 1331 F Street, NW., Suite 850, Washington, DC 20004; (202) 272-2004 (V), (202) 272-2074 (TTY).

Accommodations

Those who plan to attend or listen by phone and require accommodations should notify NCD as soon as possible to allow time to make arrangements.

Dated: November 18, 2011.
Aaron Bishop,
Executive Director.

[FR Doc. 2011-30224 Filed 11-18-11; 11:15 am]

BILLING CODE 6820-MA-P